FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 004308F

Name: AAA International Freight Forwarding Group Inc.

Address: 6709 NW., 84th Avenue, Miami, FL 33166

Date Revoked: April 2, 2005.

Reason: Failed to maintain a valid bond.

License Number: 007446N

Name: Airway Express, Inc. dba Magic Freight System

Address: 440 S. Hindry Avenue, #D, Inglewood, CA 90301

Date Revoked: March 25, 2005.

Reason: Surrendered license voluntarily.

License Number: 004261F

Name: Boston Worldwide, Inc.

Address: 120 Eastern Avenue, Suite 101, Chelsea, MA 02150

Date Revoked: April 1, 2005.

Reason: Failed to maintain a valid bond.

License Number: 017158F

Name: Danmax International Corporation

Address: 12700 SW., 112 Street, Miami, FL 33186

Date Revoked: March 31, 2005.

Reason: Failed to maintain a valid bond.

License Number: 018120F

Name: Elizabeth M. Gibson dba American Consultative Logistics

Address: 806 Cornell Road, Franklin Square, NY 11010

Date Revoked: April 7, 2005.

Reason: Failed to maintain a valid bond.

License Number: 018200F

Name: Honor Truck & Transfer Inc.

Address: 1100 Deforest Avenue, Long Beach, CA 90813

Date Revoked: April 7, 2005.

Reason: Failed to maintain a valid bond.

License Number: 001745F

Name: J. H. Bachmann, Inc.

Address: 30 Montgomery Street, Suite 210, Jersey City, NJ 07320

Date Revoked: April 9, 2005.

Reason: Failed to maintain a valid bond.

License Number: 017233N

Name: P.Y. Logistics, Inc. dba Pumyang Overseas Express U.S.A.

Address: 19401 S. Main Street, #102, Gardena, CA 90248

Date Revoked: April 8, 2005.

Reason: Failed to maintain a valid bond.

License Number: 004260F

Name: Southern Shipping Company

Address: 115 East Point Drive, Savannah, GA 31410

Date Revoked: March 31, 2005.

Reason: Failed to maintain a valid bond.

Sandra L. Kusumoto,
Director, Bureau of Certification and Licensing.

[FR Doc. 05-7958 Filed 4-20-05; 8:45 am]

BILLING CODE 6730-01-P